DEPARTMENT OF TRANSPORTATION

Federal Aviation Administration

[Docket No. FAA-2022-0363, Notice No. 63-22-01]

Notice of Intent To Designate as Abandoned Emerald Enterprises LTD. Type Certificate No. A9WE

AGENCY: Federal Aviation Administration (FAA), DOT.

ACTION: Notice of intent to designate Emerald Enterprises LTD. type certificate as abandoned; request for comments.

SUMMARY: This notice announces the FAA's intent to designate Emerald Enterprises LTD. Type Certificate (TC) No. A9WE as abandoned and make the related engineering data available upon request. The FAA has received a request to provide engineering data concerning this TC. The FAA has been unsuccessful in contacting Emerald Enterprises LTD. concerning the TC. This action is intended to enhance aviation safety.

DATES: The FAA must receive all comments by January 3, 2023.

ADDRESSES: You may send comments on this notice by any of the following methods:

• Federal eRulemaking Portal: Go to https://www.regulations.gov. Follow the instructions for submitting comments.

• Mail: Manuel Hernandez, AIR-792, Federal Aviation Administration, Los Angeles ACO Branch, 3960 Paramount Boulevard, Suite 100 Lakewood, CA 90712-4137.

• Email: Manuel.F.Hernandez@faa.gov. Include “Docket No. FAA-2022-0363, Notice No. 63-22-01” in the subject line of the message.

• Hand Delivery: Deliver to Mail address above between 9 a.m. and 5 p.m., Monday through Friday, except Federal holidays.

FOR FURTHER INFORMATION CONTACT: Manuel Hernandez, Aerospace Engineer, Federal Aviation Administration, Los Angeles ACO Branch, 3960 Paramount Boulevard, Suite 100 Lakewood, CA 90712-4137; telephone (562) 627-5256; email Manuel.F.Hernandez@faa.gov.

SUPPLEMENTARY INFORMATION:

Comments Invited

The FAA invites interested parties to provide comments, written data, views, or arguments relating to this notice. Send your comments to an address listed under the ADDRESSES section. Include “Docket No. FAA-2022-0363, Notice No. 63-22-01” at the beginning of your comments. The FAA will consider all comments received on or before the closing date. All comments received will be available in the docket for examination by interested persons.

Background

The FAA is posting this notice to inform the public that the FAA intends to designate Emerald Enterprises LTD. TC No. A9WE for the Wing Aircraft Model D-1 airplane as abandoned and subsequently release the related engineering data.

The FAA has received a third-party request for the release of data for the Wing Aircraft Model D-1 airplane under the provisions of the Freedom of Information Act (FOIA), 5 U.S.C. 552. The FAA cannot release commercial or financial information, such as the requested data, under FOIA without the permission of the data owner. However, in accordance with title 49 of the United States Code § 44704(a)(5), the FAA can make TC “engineering data” in possession of the FAA available upon request if the FAA determines that the TC has been inactive for 3 or more years and, using due diligence, the FAA is unable to locate the owner of record or the owner of record's heir. There has been no activity on this TC for more than 3 years.

On November 3, 2021, the FAA sent a registered letter to Emerald Enterprises LTD. c/o Hillyer & Irwin, at its last known address, 550 West C St. 16th Floor, San Diego, CA 92101. The letter informed Emerald Enterprises LTD. that the FAA had received a request for engineering data related to TC No. A9WE and was conducting a due diligence search to determine whether the TC was inactive and may be considered abandoned. The letter further requested that Emerald Enterprises LTD. respond in writing within 60 days and state whether it is the holder of the TC. The FAA has also attempted to make contact with Emerald Enterprises LTD. by other means, including telephone communication and emails, but without success.

Information Requested

If you are the owner or heir or a transferee of TC No. A9WE or have any knowledge regarding who may now hold TC No. A9WE, please contact Manuel Hernandez using a method described in this notice under FOR FURTHER INFORMATION CONTACT. If you are the heir of the owner or the owner by transfer of TC No. A9WE, you must provide a notarized copy of your government-issued identification with a letter and background establishing your ownership of the TC and, if applicable, your relationship as the heir to the deceased holder of the TC.

Conclusion

If the FAA does not receive any response by January 3, 2023, the FAA will consider TC No. A9WE abandoned and the FAA will proceed with the release of the requested data. This action is for the purpose of maintaining the airworthiness of an aircraft and enhancing aviation safety.

Issued on June 30, 2022.
Christina Underwood,
Acting Director, Compliance & Airworthiness Division, Aircraft Certification Service.

[FR Doc. 2022-14413 Filed 7-6-22; 8:45 am]

BILLING CODE 4910-13-P